DEPARTMENT OF TRANSPORATION

Federal Aviation Administration

14 CFR Part 39

[Docket No. FAA-2008-0392; Directorate Identifier 2008-CE-022-AD; Amendment 39-15451; AD 2008-07-10]

2120-AA64

Airworthiness Directives; Hawker Beechcraft Corporation Models B200, B200GT, B300, and B300C Airplanes

AGENCY: Federal Aviation Administration (FAA), DOT.

ACTION: Final rule; request for comments.

SUMMARY: The FAA is adopting a new airworthiness directive (AD) for certain Hawker Beechcraft Corporation (HBC) Models B200, B200GT, B300, and B300C airplanes. This AD requires you to fabricate and install a placard incorporating information that limits operation when there is known or forecast icing and requires you to replace a section of the pneumatic supply tube for the tail deice system with a new tube of a different material. This AD results from reports of collapsed tail deice boot pneumatic supply tubes. We are issuing this AD to prevent collapsed pneumatic supply tubes, which could result in failure of the tail deice boots to operate. This failure could lead to loss of control in icing conditions.

DATES: This AD becomes effective on April 10, 2008.

On April 10, 2008 the Director of the Federal Register approved the incorporation by reference of certain publications listed in this AD.

We must receive any comments on this AD by June 6, 2008.

ADDRESSES: Use one of the following addresses to comment on this AD.

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

To get the service information identified in this AD, contact Hawker Beechcraft Corporation, P.O. Box 85, Wichita, Kansas 67201-0085; telephone: (800) 429-5372 or (316) 676-3140.

To view the comments to this AD, go to http://www.regulations.gov. The docket number is FAA-2008-0392; Directorate Identifier 2008-CE-022-AD.

FOR FURTHER INFORMATION CONTACT: Don Ristow, Aerospace Engineer, Wichita Aircraft Certification Office, 1801 Airport Road, Room 100, Wichita, Kansas 67209; telephone: (316) 946-4120; fax: (316) 946-4107.

SUPPLEMENTARY INFORMATION:

Discussion

We received information of reports of collapsed pneumatic tubes, which supply pressure and vacuum to the horizontal stabilizer deice boots. With the introduction of an improved environmental control system, a section of the pneumatic deice tube located in the aft evaporator bay is subject to higher than normal temperature. This high heat in the aft evaporator bay may cause the tubing to soften and collapse undetected and permanently block flow to and from the deice boots.

The pilot's operating handbook specifies to visually check deicing boots, where possible, for inflation and hold down function when ice protection equipment is required. However, the tail deice boots are not visible from the cockpit during the check.

Since the collapse of the pneumatic deice supply tube is caused by the use of cabin heat, there is the possibility that the condition could occur after pre-flight verification of operation. Icing conditions and the use of cabin heat would be a normal operational mode.

In February 2008, HBC issued a safety communique to inform flight crews of the potential for collapsed pneumatic supply tubes and recommended flight crews avoid flight into icing conditions.

This condition, if not corrected, could result in failure of the tail deice boots to operate. This failure could lead to loss of control in icing conditions.

Relevant Service Information

We reviewed Hawker Beechcraft Mandatory Service Bulletin SB 30-3889, Issued: March 2008. The service information describes procedures for replacement of tail deice boot pneumatic supply tubes.

FAA's Determination and Requirements of This AD

We are issuing this AD because we evaluated all the information and determined the unsafe condition described previously is likely to exist or develop on other products of the same type design. This AD requires you to fabricate and install a placard incorporating information that limits operation when there is known or forecast icing and requires you to replace a section of the pneumatic supply tube for the tail deice system with a new tube of a different material. The replacement of the tail deice boot pneumatic supply tubes is terminating action for the operation limitations in known or forecast icing.

In preparing this rule, we contacted type clubs and aircraft operators to get technical information and information on operational and economic impacts. We did not receive any information through these contacts. If received, we would have included a discussion of any information that may have influenced this action in the rulemaking docket.

FAA's Determination of the Effective Date

An unsafe condition exists that requires the immediate adoption of this AD. The FAA has found that the risk to the flying public justifies waiving notice and comment prior to adoption of this rule because this condition could result in failure of the tail deice boots to operate. This failure could lead to loss of control in icing conditions. Therefore, we determined that notice and opportunity for public comment before issuing this AD are impracticable and that good cause exists for making this amendment effective in fewer than 30 days.

Comments Invited

This AD is a final rule that involves requirements affecting flight safety, and we did not precede it by notice and an opportunity for public comment. We invite you to send any written relevant data, views, or arguments regarding this AD. Send your comments to an address listed under the ADDRESSES section. Include the docket number “FAA-2008-0392; Directorate Identifier 2008-CE-022-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact we receive concerning this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

Examining the AD Docket

You may examine the AD docket that contains the AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2008-07-10 Hawker Beechcraft Corporation: Amendment 39-15451; Docket No. FAA-2008-0392; Directorate Identifier 2008-CE-022-AD.

Effective Date

(a) This AD becomes effective on April 10, 2008.

Affected ADs

(b) None.

Applicability

(c) This AD applies to the following airplane models and serial numbers that are certificated in any category:

Model | Serial Nos.
B200 | BB-1926, BB-1978, and BB-1988 through BB-2000.
B200GT | BY-1 through BY-26.
B300 | FL-427, FL-493, and FL-500 through FL-573.
B300C | FM-14 through FM-18.

Unsafe Condition

(d) This AD is the result of reports of collapsed tail deice boot pneumatic supply tubes. We are issuing this AD to prevent collapsed pneumatic supply tubes, which could result in failure of the tail deice boots to operate. This failure could lead to loss of control in icing conditions.

Compliance

(e) To address this problem, you must do the following, unless already done:

Actions | Compliance | Procedures
(1) Fabricate a placard (using at least ⅛-inch letters) with the following words and install the placard on the instrument panel within the pilot's clear view: “THIS AIRPLANE IS PROHIBITED FROM FLIGHT IN KNOWN OR FORECAST ICING” | Before further flight in known or forecast icing conditions or within the next 3 days after April 10, 2008 (the effective date of this AD), whichever occurs first | The owner/operator holding at least a private pilot certificate as authorized by section 43.7 of the Federal Aviation Regulations (14 CFR 43.7) may fabricate the placard required in paragraph (e)(1) of this AD. Make an entry into the aircraft records showing compliance with these portions of the AD in accordance with section 43.9 of the Federal Aviation Regulations (14 CFR 43.9).
(2) Replace the tail deice boot pneumatic supply tubes using Kit No. 130-9701-0003 for Models B200 and B200GT or Kit No. 130-9701-0001 for Models B300 and B300C. The replacement of tail deice boot pneumatic supply tubes required by paragraph (e)(2) of this AD is terminating action for the placard required by paragraph (e)(1) of this AD | Within 25 hours time-in-service (TIS) after April 10, 2008 (the effective date of this AD) or within 3 months after April 10, 2008 (the effective date of this AD), whichever occurs first | Follow Hawker Beechcraft Mandatory Service Bulletin SB 30-3889, Issued: March 2008.
(3) Remove the placard required by paragraph (e)(1) of this AD | Before further flight after the replacement of tail deice boot pneumatic supply tubes required by paragraph (e)(2) of this AD | The owner/operator holding at least a private pilot certificate as authorized by section 43.7 of the Federal Aviation Regulations (14 CFR 43.7) may remove the placard required in paragraph (e)(1) of this AD. Make an entry into the aircraft records showing compliance with these portions of the AD in accordance with section 43.9 of the Federal Aviation Regulations (14 CFR 43.9).

Alternative Methods of Compliance (AMOCs)

(f) The Manager, Wichita Aircraft Certification Office (ACO), FAA, has the authority to approve AMOCs for this AD, if requested using the procedures found in 14 CFR 39.19. Send information to ATTN: Don Ristow, Aerospace Engineer, Wichita ACO, 1801 Airport Road, Room 100, Wichita, Kansas 67209; telephone: (316) 946-4120; fax: (316) 946-4107. Before using any approved AMOC on any airplane to which the AMOC applies, notify your appropriate principal inspector (PI) in the FAA Flight Standards District Office (FSDO), or lacking a PI, your local FSDO.

Related Information

(g) Hawker Beechcraft Safety Communique No. 290, dated: February 2008, pertains to the subject of this AD.

Material Incorporated by Reference

(h) You must use Hawker Beechcraft Mandatory Service Bulletin SB 30-3889, Issued: March 2008, to do the actions required by this AD, unless the AD specifies otherwise.

(1) The Director of the Federal Register approved the incorporation by reference of this service information under 5 U.S.C. 552(a) and 1 CFR part 51.

(2) For service information identified in this AD, contact Hawker Beechcraft Corporation, P.O. Box 85, Wichita, Kansas 67201-0085; telephone: (800) 429-5372 or (316) 676-3140.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on March 27, 2008.
John Colomy,
Acting Manager, Small Airplane Directorate, Aircraft Certification Service.

[FR Doc. E8-6959 Filed 4-4-08; 8:45 am]

BILLING CODE 4910-13-P